DEPARTMENT OF THE INTERIOR

National Park Service

Notice of Intent To Repatriate Cultural Items: Rochester Museum & Science Center, Rochester, NY

AGENCY: National Park Service, Interior.

ACTION: Notice.

Notice is here given in accordance with the Native American Graves Protection and Repatriation Act (NAGPRA), 25 U.S.C. 3005, of the intent to repatriate cultural items in the possession of the Rochester Museum & Science Center, Rochester, NY, that meet the definitions of “sacred objects” and “objects of cultural patrimony” under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

Between 1923 and 1966, the Rochester Museum & Science Center acquired from various sources 10 medicine faces made by members of the Tonawanda Seneca Nation.

In 1923, a large wooden medicine face was collected by Edward D. Putnam, Curator, Rochester Museum, Rochester, NY, on the Tonawanda Reservation. It was accessioned into the museum's collection on August 25, 1923 (AE 383/23.32.61). According to museum documentation, “This is a shaman's mask used by the Seneca False Face Company in curing diseases by invoking the spirit of the myth creature represented by the face.”

In 1929, the museum accessioned two large wooden medicine faces that were collected by James Skye from the Tonawanda Reservation (AE 1673/29.270.1, made circa 1900; and AE 1689/29.270.2, made circa 1920).

In 1929, the museum purchased a large wooden medicine face with a medicine bag attached to it from Alvin Dewey, Rochester, NY (AE 2871/D 4974/29.259.18). According to the catalog card by Dewey, it was “Last used by Chauncey Abrams of Tonawanda Reservation.”

In 1929, a large wooden medicine face was purchased from Alvin Dewey, Rochester, NY (AE 2873/29.259.20). In June 1916, Mr. Dewey had purchased the medicine face from William S. Wakeman, Batavia, NY. Before selling it to the museum, it was lent to Arthur C. Parker, State Archeologist, on December 23, 1923. At that time, it was reported to have been 75 years old.

In March 1966, the museum purchased five large medicine faces from Kidd Smith that were made on the Tonawanda Seneca Reservation, circa 1960. Four are identified as being simply wooden medicine faces (AE 10256/66.356.1, AE 10271/66.356.3, AE 10272/66.356.4 and AE 10273/66.356.5) with the fifth medicine face being made of basswood (AE 10257/66.356.2).

Museum documentation, supported by oral evidence presented during consultation by Tonawanda Seneca Nation NAGPRA representatives, indicates that these medicine faces are culturally affiliated with the Tonawanda Seneca Nation. Tonawanda Seneca Nation traditional religious leaders have identified these medicine faces as being needed for the practice of traditional Native American religions by present-day adherents. During consultation, it was shown that individuals who carved a face did not have the authority to alienate it to a third party or sell it indirectly to the Rochester Museum & Science Center. Therefore, based on consultation with NAGPRA representatives from the Tonawanda Seneca Nation and other Haudenosaunee and non-Haudenosaunee consultants, the museum has determined that the medicine faces are both sacred objects and objects of cultural patrimony.

Officials of the Rochester Museum & Science Center have determined that, pursuant to 25 U.S.C. 3001(3)(C), the 10 cultural items described above are specific ceremonial objects needed by traditional Native American religious leaders for the practice of traditional Native American religions by their present-day adherents. Officials of the Rochester Museum & Science Center have also determined that, pursuant to 25 U.S.C. 3001(3)(D), the 10 cultural items described above have an ongoing historical, traditional, or cultural importance central to the Native American group or culture itself, rather than property owned by an individual. Lastly, officials of the Rochester Museum & Science Center have determined that, pursuant to 25 U.S.C. 3001(2), there is a relationship of shared group identity that can be reasonably traced between the sacred objects/objects of cultural patrimony and the Tonawanda Band of Seneca Indians of New York.

Representatives of any other Indian Nation or tribe that believes itself to be culturally affiliated with the sacred objects/objects of cultural patrimony should contact Adele DeRosa, NAGPRA Coordinator/Collections Manager, Rochester Museum & Science Center, 657 East Ave., Rochester, NY 14607, telephone (585) 271-4552, ext 302, before June 7, 2010. Repatriation of the sacred objects/objects of cultural patrimony to the Tonawanda Band of Seneca Indians of New York may proceed after that date if no additional claimants come forward.

The Rochester Museum & Science Center is responsible for notifying the Tonawanda Band of Seneca Indians of New York that this notice has been published.

Dated: April 27, 2010.
David Tarler,
Acting Manager, National NAGPRA Program.

[FR Doc. 2010-10787 Filed 5-6-10; 8:45 am]

BILLING CODE 4312-50-P